NUCLEAR REGULATORY COMMISSION

10 CFR Part 72

[NRC-2017-0008]

RIN 3150-AJ89

List of Approved Spent Fuel Storage Casks: NAC International MAGNASTOR® Cask System; Certificate of Compliance No. 1031, Amendment No. 7; Correction

AGENCY: Nuclear Regulatory Commission.

ACTION: Correcting amendment.

SUMMARY: The U.S. Nuclear Regulatory Commission (NRC) published a direct final rule in the Federal Register on June 6, 2017, amending its spent fuel storage regulations by revising the NAC International MAGNASTOR® Cask System listing within the “List of approved spent fuel storage casks” to include Amendment No. 7 to Certificate of Compliance No. 1031. The direct final rule was effective on August 21, 2017. The technical specifications for NAC International MAGNASTOR® Cask System, Amendment No. 7 included a minor editorial and non-substantive error. The purpose of this action is to correct the error.

DATES: This rule is effective on March 20, 2019.

ADDRESSES: Please refer to Docket ID NRC-2017-0008 when contacting the NRC about the availability of information for this action. You may obtain publicly-available information related to this action by any of the following methods:

• Federal Rulemaking Website: Go to http://www.regulations.gov and search for Docket ID NRC-2017-0008. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

FOR FURTHER INFORMATION CONTACT: Vanessa Cox, Office of Nuclear Material Safety and Safeguards, U.S. Nuclear Regulatory Commission, Washington, DC 20555-0001; telephone: 301-415-8342; email: Vanessa.Cox@nrc.gov.

SUPPLEMENTARY INFORMATION: The NRC published a direct final rule in the Federal Register on June 6, 2017 (82 FR 25931), amending its regulations in part 72 of title 10 of the Code of Federal Regulations (10 CFR) by revising the “List of approved spent fuel storage casks” to add Amendment No. 7 to Certificate of Compliance No. 1031 for the NAC International MAGNASTOR® Cask System listing. The direct final rule was effective on August 21, 2017 (82 FR 37511). The final rule inadvertently omitted a relevant reference to applicable procedures in the technical specifications.

On December 14, 2018, the NRC received a request from NAC to correct a minor editorial and non-substantive error in Appendix A, “Technical Specifications and Design Features for the MAGNASTOR System,” of Certificate of Compliance No. 1031, Amendment No. 7 (ADAMS Accession No. ML18352A886). NAC requested that a sentence in Technical Specifications Appendix A, Section 5.2(e) be corrected to include an omitted reference to applicable procedures in Section 9.4.1. Specifically, NAC said the revised sentence should state “. . . the vent port and drain port shall be verified in accordance with procedures in Section 9.1.1 [MAGNASTOR® Transfer Cask (MTC)] or 9.4.1 [Passive MAGNASTOR® Transfer Cask (PMTC)].”

Amendment No. 7 provided for a new PMTC. In its application for Amendment No. 7, NAC International submitted a new set of operating procedures for the PMTC located in Section 9.4.1, “Loading and Closing the [Transportable Storage Canister (TSC)] Using PMTC” (ADAMS Accession No. ML15225A478). These procedures are separate and distinct from the procedures in Section 9.1.1, “Loading and Closing the TSC Using Standard MTC” (ADAMS Accession No. ML17293A428). The two procedures require licensees to “[p]erform visual and [dye penetrant (PT)] examinations.” The standard MTC is the original transfer cask authorized for use in the initial certificate of compliance (ADAMS Accession No. ML090350509). Prior to Amendment No. 7, the safety analysis report and the technical specifications referred to the authorized transfer cask as the “transfer cask,” since there was no need to make a distinction between two different transfer casks.

In issuing Amendment No. 7 to Certificate of Compliance No. 1031 for the MAGNASTOR® storage cask, the NRC authorized licensees to use the PMTC and its associated changes to the technical specifications, in addition to the previously authorized MTC cask. However, Appendix A, Section 5.2.e of the technical specifications for Amendment No. 7 inadvertently omitted the reference to PMTC procedures in Section 9.4.1 and instead only referenced MTC procedures in Section 9.1.1. Sections 9.1.1 and 9.4.1 require the same “visual and PT examinations.” NRC staff previously reviewed and approved the “visual and PT examinations” when it approved the MAGNASTOR® storage cask (ADAMS Accession No. ML090350589). Further, NRC staff reviewed and approved the inspection and testing procedures, including the use of “visual and PT examinations” with regard to the PMTC, when it evaluated Amendment No. 7 (ADAMS Accession No. ML17013A513). Adding a reference to the applicable PMTC procedures to one sentence in the technical specifications is a minor editorial correction and would not change the substantive responsibilities of any person or entity regulated by the NRC.

The NRC is correcting the omission by adding the reference to Section 9.4.1 in the technical specifications for Amendment No. 7 in Appendix A, Section 5.2.e for the PMTC. The NRC is also revising Amendment No. 7 to Certificate of Compliance No. 1031 of the NAC International MAGNASTOR® Cask System listing within 10 CFR 72.214 to note the correction.

Rulemaking Procedure

Under the Administrative Procedure Act (5 U.S.C. 553(b)), an agency may waive the normal notice and comment requirements if it finds, for good cause, that they are impracticable, unnecessary, or contrary to the public interest. As authorized by 5 U.S.C. 553(b)(3)(B), the NRC finds good cause to waive notice and opportunity for comment on the amendment because it will have no substantive impact and is of a minor and administrative nature dealing with a correction to a CFR section related only to management, organization, procedure, and practice. This amendment does not require action by any person or entity regulated by the NRC. Also, the final rule does not change the substantive responsibilities of any person or entity regulated by the NRC. Accordingly, for the reasons stated in this document, the NRC finds, pursuant to 5 U.S.C. 553(d)(3), that good cause exists to make this rule effective upon publication.

List of Subjects in 10 CFR Part 72

Administrative practice and procedure, Hazardous waste, Indians, Intergovernmental relations, Nuclear energy, Penalties, Radiation protection, Reporting and recordkeeping requirements, Security measures, Spent fuel, Whistleblowing.

For the reasons set out in the preamble and under the authority of the Atomic Energy Act of 1954, as amended; the Energy Reorganization Act of 1974, as amended; and 5 U.S.C. 552 and 553, the NRC is making the following correcting amendment to 10 CFR part 72:

PART 72—LICENSING REQUIREMENTS FOR THE INDEPENDENT STORAGE OF SPENT NUCLEAR FUEL, HIGH-LEVEL RADIOACTIVE WASTE, AND REACTOR-RELATED GREATER THAN CLASS C WASTE

1. The authority citation for part 72 continues to read as follows:

Authority: Atomic Energy Act of 1954, secs. 51, 53, 57, 62, 63, 65, 69, 81, 161, 182, 183, 184, 186, 187, 189, 223, 234, 274 (42 U.S.C. 2071, 2073, 2077, 2092, 2093, 2095, 2099, 2111, 2201, 2210e, 2232, 2233, 2234, 2236, 2237, 2238, 2273, 2282, 2021); Energy Reorganization Act of 1974, secs. 201, 202, 206, 211 (42 U.S.C. 5841, 5842, 5846, 5851); National Environmental Policy Act of 1969 (42 U.S.C. 4332); Nuclear Waste Policy Act of 1982, secs. 117(a), 132, 133, 134, 135, 137, 141, 145(g), 148, 218(a) (42 U.S.C. 10137(a), 10152, 10153, 10154, 10155, 10157, 10161, 10165(g), 10168, 10198(a)); 44 U.S.C. 3504 note.

2. In § 72.214, Certificate of Compliance 1031 is revised to read as follows:

§ 72.214 List of approved spent fuel storage casks.

* * * * *

Certificate Number: 1031.

Initial Certificate Effective Date: February 4, 2009, superseded by Initial Certificate, Revision 1, on February 1, 2016.

Initial Certificate, Revision 1, Effective Date: February 1, 2016.

Amendment Number 1 Effective Date: August 30, 2010, superseded by Amendment Number 1, Revision 1, on February 1, 2016.

Amendment Number 1, Revision 1, Effective Date: February 1, 2016.

Amendment Number 2 Effective Date: January 30, 2012, superseded by Amendment Number 2, Revision 1, on February 1, 2016.

Amendment Number 2, Revision 1, Effective Date: February 1, 2016.

Amendment Number 3 Effective Date: July 25, 2013, superseded by Amendment Number 3, Revision 1, on February 1, 2016.

Amendment Number 3, Revision 1, Effective Date: February 1, 2016.

Amendment Number 4 Effective Date: April 14, 2015.

Amendment Number 5 Effective Date: June 29, 2015.

Amendment Number 6 Effective Date: December 21, 2016.

Amendment Number 7 Effective Date: August 21, 2017, as corrected (ADAMS Accession No. ML19045A346).

SAR Submitted by: NAC International, Inc.

SAR Title: Final Safety Analysis Report for the MAGNASTOR® System.

Docket Number: 72-1031.

Certificate Expiration Date: February 4, 2029.

Model Number: MAGNASTOR®.

* * * * *

Dated at Rockville, Maryland, this 14th day of March, 2019.
For the Nuclear Regulatory Commission.
Cindy K. Bladey,
Chief, Regulatory Analysis and Rulemaking Support Branch, Division of Rulemaking, Office of Nuclear Material Safety and Safeguards.

[FR Doc. 2019-05238 Filed 3-19-19; 8:45 am]

BILLING CODE 7590-01-P